DEPARTMENT OF DEFENSE

Office of the Secretary

Fall 2000 Conference Meeting of the Defense Advisory Committee on Women in the Services (DACOWITS)

AGENCY: Department of Defense, Advisory Committee on Women in the Services.

ACTION: Notice.

SUMMARY: Pursuant to section 10(a), Public Law 92-463, as amended, notice is hereby given of a forthcoming semiannual conference of the Defense Advisory Committee on Women in the Services (DACOWITS). The purpose of Fall 2000 DACOWITS Conference is to assist the Secretary of Defense on matters relating to women in the Services. Conference sessions will be held daily and will be open to the public, unless otherwise noted below.

DATES: October 18-22, 2000.

ADDRESSES: Luxor Las Vegas, 3900 Las Vegas Blvd., South, Las Vegas, NV; telephone: (702) 262-4606.

FOR FURTHER INFORMATION CONTACT: MAJ Susan E. Kolb, ARNG or MSG Verena Sander, USA, DACOWITS and Military Women Matters, OASD (Force Management Policy), 4000 Defense Pentagon, Room 3D769, Washington, DC 20301-4000; telephone (703) 697-2122.

SUPPLEMENTARY INFORMATION: The following rules will govern the participation by members of the public at the conference:

(1) Members of the public will not be permitted to attend the OSD Reception and Dinner and Conference Field Trip.

(2) The Opening Session, General Session, all subcommittee sessions and the Voting Session will be open to the public.

(3) Interested persons may submit a written statement for consideration by the Committee and/or make an oral presentation of such during the conference.

Persons desiring to make an oral presentation or submit a written statement to the Committee must notify the point of contact listed above no later than October 13, 2000.

(5) Length and number of oral presentations to be made will depend on the number of requests received from members of the public.

(6) Oral presentations by members of the public will be permitted only on Sunday, October 22, 2000, before the full Committee.

(7) Each person desiring to make an oral presentation must provide the DACOWITS office with one (1) copy of the presentation by October 13, 2000 and bring 175 copies of any material that is intended for distribution at the conference.

(8) Persons submitting a written statement for inclusion in the minutes of the conference must submit to the DACOWITS staff one (1) copy of the statement by the close of the conference on Sunday, October 22, 2000.

(9) Other new items from members of the public may be presented in writing to any DACOWTIS member for transmittal to the DACOWITS chair or Military Director, DACOWITS and Military Women Matters, for consideration.

(10) Members of the public will not be permitted to enter oral discussions conducted by the Committee members at any of the sessions; however, they will be permitted to reply to questions directed to them by the members of the Committee. After the official participants have asked questions and/or made comments to the scheduled speakers, members of the public will be permitted to ask questions if recognized by the Chair and if time allows.

(11) Non-social agenda events that are not open to the public are for administrative matters unrelated to substantive advice provided to the Department of Defense and do not involve DACOWITS deliberations or decision-making issues before the Committee.

Conference sessions will be conducted according to the following agenda:

Wednesday, October 18, 2000

Conference Registration

Field Trip (DACOWITS Members Only)

Subcommittee Rules and Procedures Meeting (DACOWITS Members Only)

Military Representatives Meeting (Military Representatives Only)

Social (Invited Guests Only)

Thursday, October 19, 2000

Breakfast (DACOWITS Members and Military Representatives Only)

Opening Session and General Session (Open to Public)

OSD Luncheon (Invited Guests Only)

Subcommittee Sessions (Open to Public)

Friday, October 20, 2000

Subcommittee Sessions (Open to Public)

Luncheon (Paid Registered Conference Participants Only)

Executive Committee Rules and Procedures Meeting (DACOWITS Members Only)

OSD Reception and Dinner (Invited Guests Only)

Saturday, October 21, 2000

Subcommittee Sessions (Open to Public)

Tri-committee Review (Open to Public)

Executive Committee Rules and Procedures Meeting (DACOWITS Members Only)

Strategic Planning Meeting (DACOWITS Members Only)

Sunday, October 22, 2000

Voting Session (Open to Public)

Dated: September 7, 2000.
L.M. Bynum,
Alternate OSD Federal Register Liaison Officer, Department of Defense.

[FR Doc. 00-23429 Filed 9-12-00; 8:45 am]

BILLING CODE 5001-10-M